DEPARTMENT OF COMMERCE

Minority Business Development Agency

[Docket No. 00724218-6267-11]

Cancellation of the Solicitation of Applications for the Native American Business Enterprise Center (NABEC) and Extension of NABEC Program Period

AGENCY: Minority Business Development Agency, Commerce.

ACTION: Notice.

SUMMARY: The Minority Business Development Agency (MBDA) publishes this notice to: (1) Announce that it is canceling the Solicitation of Applications for the Native American Business Enterprise Center (NABEC) (formerly Native American Business Development Center (NABDC)) Program as published on September 6, 2006, and (2) Amend the August 29, 2003 Federal Register notice solicitation to extend the total project award period for cooperative agreements under the NABEC program from three (3) years to four (4) years. MBDA is taking both actions in order to permit MBDA to solicit input from all stakeholders on any proposed Program changes. This notice also identifies certain NABECs currently funded through December 31, 2006, that will be eligible for an additional year of funding beyond the three (3) years normally allowed between competitions.

DATES: The additional year of funding, if approved by the Grants Officer, will commence January 1, 2007 and continue through December 31, 2007.

FOR FURTHER INFORMATION CONTACT: Mr. Efrain Gonzalez, Program Manager at (202) 482-1940.

SUPPLEMENTARY INFORMATION: Under Executive order 11625, the NABEC Program was established to provide standardized business assistance services to the Native American business public directly, develop a network of strategic partnerships and provide strategic business consulting within the geographic services area. These mission goals generate increased results with respect to financing and contracts awarded to Native American and minority-owned firms and thus, are a key component of the Program.

MBDA is announcing the cancellation of the Solicitation of Applications for the NABEC Program, as published on September 6, 2006 (71 FR 52529), to allow for the solicitation of input from all stakeholders on any proposed Program changes. In addition, MBDA is extending the total project award period from three years to four years for awards under the NABEC Program. MBDA's prior Federal Register notice of August 29, 2003 (68 FR 51981), as amended on September 30, 2003 (68 FR 56267), February 11, 2004 (69 FR 6644), and February 19, 2004 (69 FR 7726) is hereby amended to allow for the extension of the total project award period of cooperative agreements under the NABEC Program to four (4) years.

NABECs that will be completing the third year of operation on December 31, 2006 will be eligible for an additional year of funding, on a non-competitive basis. Such additional funding will be at the total discretion of MBDA, using the evaluation criteria and process used to determine the continuation of funding during the original award period (Years 1-3).

In making its determination, MBDA will consider (1) the NABEC's performance rating, (2) the availability of funds, and (3) the agency's priorities. In determining the NABEC's performance rating, MBDA will review the overall project performance as evaluated through the standardized performance reports and assessments required by the NABEC Program. MBDA will consider only those NABEC's that have achieved a performance rating of “Satisfactory,” “Good,” “Commendable,” or “Outstanding.”

The following NABECs are affected by this notice and will be eligible for an additional year (January 1, 2007 through December 31, 2007) of funding on a non-competitive basis: Arizona Statewide NABEC (The National Center for American Indian Enterprise Development), California Statewide NABEC (The National Center for American Indian Enterprise Development), Minnesota/Iowa Statewide NABEC (Minnesota Chippewa Tribe), New Mexico Statewide NABEC (The Native American Resource Center, Inc.), North Carolina/Cherokee/Ashville NABEC (Eastern Band of Cherokee Indians), North/South Dakota Statewide NABEC (United Tribes Technical College), Northwest NABEC (The National Center for American Indian Enterprise Development), and Oklahoma Statewide NABEC (The Native American Resource Center, Inc.).

The existing NABECs will continue to concentrate on serving Native American and minority-owned firms located in their originally designated geographic service area. The NABEC Program shall continue to leverage telecommunications technology, including the Internet, and a variety of online computer-based resources to dramatically increase the level of service that the NABEC can provide to Native American and minority-owned firms, including micro-enterprises.

Entrepreneurs eligible for assistance under the NABEC Program are Native Americans, Eskimos, African Americans, Puerto Ricans, Spanish-speaking Americans, Aleuts, Asian Pacific Americans, Asian Indians, and Hasidic Jews.

Department of Commerce Pre-Award Notification Requirements for Grants and Cooperative Agreements

The Department of Commerce Pre-Award Notification Requirements for Grants and Cooperative Agreements contained in the Federal Register notice of December 30, 2004 (69 FR 78389), are applicable to this notice.

Executive Order 12866

This notice has been determined to be not significant for purposes of E.O. 12866.

Executive Order 13132 (Federalism)

It has been determined that this notice does not contain policies with Federalism implications as that term is defined in Executive Order 13132.

Administrative Procedure Act/Regulatory Flexibility Act

Prior notice and an opportunity for public comment are not required by the Administrative Procedure Act for rules concerning public property, loans, grants, benefits, and contracts (5 U.S.C. 553(a)(2)). Because notice and opportunity for comment are not required pursuant to 5 U.S.C. 553 or any other law, the analytical requirements of the Regulatory Flexibility Act (5 U.S.C. 601 et seq.) are inapplicable. Therefore, a regulatory flexibility analysis is not required and has not been prepared.

Authority: 15 U.S.C. 1512 and Executive Order 11625.

Dated: October 20, 2006.
Ronald Marin,
Financial Management Officer, Minority Business Development Agency.

[FR Doc. E6-17879 Filed 10-24-06; 8:45 am]

BILLING CODE 3510-21-P